ENVIRONMENTAL PROTECTION AGENCY

40 CFR Part 63

[EPA-HQ-OAR-2019-0282; FRL-10014-50-OAR and FRL-10019-02-OAR]

RIN 2060-AM75

Reclassification of Major Sources as Area Sources Under Section 112 of the Clean Air Act; Correction

AGENCY: Environmental Protection Agency (EPA).

ACTION: Final rule; correction.

SUMMARY: The U.S. Environmental Protection Agency (EPA) is correcting a final rule that appeared in the Federal Register on November 19, 2020, and will become effective on January 19, 2021. The EPA finalized the amendments to the General Provisions that apply to National Emission Standards for Hazardous Air Pollutants (NESHAP). This action corrects inadvertent typographical errors and redundant text in the Federal Register. The corrections described in this action do not affect the substantive requirements of the final rule implementing the plain language reading of the “major source” and “area source” definitions of section 112 of the Clean Air Act.

DATES: This final rule is effective on January 19, 2021.

FOR FURTHER INFORMATION CONTACT: For questions about this final action, contact Elineth Torres, Sector Policies and Programs Division (D205-02), Office of Air Quality Planning and Standards, U.S. Environmental Protection Agency, Research Triangle Park, North Carolina 27711; telephone number: (919) 541-4347; fax number: (919) 541-4991; and email address: torres.elineth@epa.gov.

SUPPLEMENTARY INFORMATION: The EPA is making the following corrections to the final rule, Reclassification of Major Sources as Area Sources Under Section 112 of the Clean Air Act (also refered as final Major MACT to Area or MM2A rule) as published in the Federal Register on November 19, 2020 (85 FR 73854).

The EPA is correcting inadvertent typographical errors and redundant text included in the regulatory text of six NESHAP subparts amended by the final MM2A rule. As described in the preamble to the final MM2A rule, the EPA finalized amendments to the NESHAP General Provision applicability tables for most of the NESHAP subparts to account for the final amendments to the General Provisions included in the final MM2A rule.

With this action, the EPA is correcting the following errors in FR Document Number (FR Doc) 2020-22044 in the issue of November 19, 2020. These corrections do not change the requirements finalized in the MM2A rule.

• At 85 FR 73894, second column, 40 CFR part 63, subpart EE. The final MM2A rule instruction 37 amended Table 1 to subpart EE by revising the entry for 40 CFR 63.9(b)(2), however, there is no such entry on Table 1 to subpart EE. In this action, instruction 37 is corrected to read “adding in numerical order entries for §§ 63.1(c)(6) and 63.9(k) . . .” and amendatory text is corrected by removing the entry for 40 CFR 63.9(b)(2) from Table 1 to Subpart EE of Part 63—Applicability of General Provisions to Subpart EE.

• At 85 FR 73897, third column, 40 CFR part 63, subpart DDD. The final MM2A rule instruction 51 amended Table 1 to subpart DDD to add an entry for 40 CFR 63.1(c)(6), however this addition is unnecessary as Table 1 to subpart DDD has another entry including that provision. In this action, instruction 51 is corrected to read “. . . by adding in numerical order an entry for § 63.9(k) . . .” and the amendatory text is corrected by removing the entry for 40 CFR 63.1(c)(6) from Table 1 to Subpart DDD of Part 63—Applicability of General Provisions (40 CFR part 63, subpart A) to Subpart DDD of Part 63.

• At 85 FR 73899, first column, 40 CFR part 63, subpart NNN. The final MM2A rule instruction 60 amended Table 1 to subpart NNN to add an entry for 40 CFR 63.1(c)(6), however this addition is unnecessary as Table 1 to subpart NNN has another entry including that provision. In this action, instruction 60 is corrected to read “. . . by adding in numerical order an entry for § 63.9(k) . . .” and the amendatory text is corrected by removing the entry for 40 CFR 63.1(c)(6) from Table 1 to Subpart NNN of Part 63—Applicability of General Provisions (40 CFR part 63, subpart A) to Subpart NNN.

• At 85 FR 73912, third column, 40 CFR part 63, subpart AAAAA. The final MM2A rule instruction 118 reads as if amendments were for Table 8 to subpart AAAAA when they were for Table 9 to subpart AAAAA. In this action, instruction 118 is corrected to read “Amend table 9 to subpart AAAAA of part 63 . . .”. The table header in the amendatory text is also corrected to read “Table 9 to Subpart AAAAA of Part 63—Applicability of General Provisions to Subpart AAAAA.”

• At 85 FR 73913, first column, 40 CFR part 63, subpart DDDDD. The final MM2A rule instruction 121 correctly referenced the amendments to 40 CFR 63.7545, however, the corresponding section header in the amendatory text read “§ 63.7189 What notifications must I submit and when?” instead. In this action, the section header in the amendatory text is corrected to read “§ 63.7545 What notifications must I submit and when?”

• At 85 FR 73914, first column, 40 CFR part 63, subpart IIIII. The final MM2A rule instruction 128 correctly referenced the amendments to 40 CFR 63.8252, however, the corresponding regulatory text section header read “§ 63.825 What notifications must I submit and when?” instead. Additionally, the amendatory text at 85 FR 73914, second column for 40 CFR 63.8252(b) incorrectly referenced “120 calendar days after December 19, 2003” which should have remained April 19, 2004, as in the original regulatory text. In this action, the regulatory text section header is corrected to read “§ 63.8252 What notifications must I submit and when?”; and the amendatory text to paragraph (b) is corrected to read “(b) As specified in § 63.9(b)(2), if you start up your affected source before December 19, 2003, you must submit an Initial Notification no later than April 19, 2004, or no later than 120 days after the source becomes subject to this subpart, whichever is later.”

Section 553 of the Administrative Procedure Act, 5 U.S.C. 553(b)(B), provides that, when an agency for good cause finds that notice and public procedure are impracticable, unnecessary, or contrary to the public interest, the agency may issue a rule without providing notice and an opportunity for public comment. The EPA has determined that there is good cause for making this rule final without prior proposal and opportunity for comment because, as explained here and in each bullet above, the changes to the rule are minor technical corrections, are noncontroversial in nature, and do not substantively change the requirements of the MM2A final rule. Rather, the changes correct inadvertent typographical errors and redundant text. Additionally, the corrections to the regulatory text match the revisions described in the preamble to the final MM2A rule. Thus, notice and opportunity for public comment are unnecessary. The EPA finds that this constitutes good cause under 5 U.S.C. 553(b)(B).

Federal Register Correction

In FR doc 2020-22044 at 85 FR 73854 in the issue of November 19, 2020, the following corrections are made:

1. On page 73894, in the second column, amendatory instruction 37 is corrected to read: “37. Amend table 1 to subpart EE of part 63 by adding in numerical order entries for §§ 63.1(c)(6) and 63.9(k) to read as follows:”.

2. On page 73897, in the third column, amendatory instruction 51 is corrected to read: “51. Amend table 1 to subpart DDD of part 63 by adding in numerical order an entry for § 63.9(k) to read as follows:”.

3. On page 73899, first column, amendatory instruction 60 is corrected to read: “60. Amend table 1 to subpart NNN of part 63 by adding in numerical order an entry for § 63.9(k) to read as follows:”.

4. On page 73912, third column, amendatory instruction 118 and the table heading are corrected to read: “118. Amend table 9 to subpart AAAAA of part 63 by adding in numerical order entries for §§ 63.1(c)(6) and 63.9(k) to read as follows:”

Table 9 to Subpart AAAAA of Part 63-Applicability of General Provisions to Subpart AAAAA

* * * * *

§ 63.7545 What notifications must I submit and when?

5. On page 73913, second column, the section heading for § 63.7545 is corrected to read as set forth above.

6. On page 73914, second column, in section § 63.8252 the section heading and paragraph (b) are corrected to read as follows:

§ 63.8252 What notifications must I submit and when?

* * * * *

(b) As specified in § 63.9(b)(2), if you start up your affected source before December 19, 2003, you must submit an Initial Notification no later than April 19, 2004, or no later than 120 days after the source becomes subject to this subpart, whichever is later.

* * * * *

Dated: December 17, 2020.
Anne Austin,
Principal Deputy Assistant Administrator, Office of Air and Radiation.

[FR Doc. 2020-28384 Filed 12-23-20; 8:45 am]

BILLING CODE 6560-50-P